NATIONAL TRANSPORTATION SAFETY BOARD

Sunshine Act Meeting

Time and Place: 9:30 a.m., Tuesday, June 11, 2002.

Place: NTSB Conference Center, 429 L'Enfant Plaza SW., Washington, DC 20594.

Status: The three items are open to the public.

Matters to be Considered:

7384B Aviation Accident Report—Avjet Corporation, Gulfstream III, N303GA, Aspen, Colorado, March 29, 2001, and Safety Recommendation to the Federal Aviation Administration Regarding Crew Resource Management Training for Flight Crewmembers that Conduct On-Demand Charter Operations with Aircraft Requiring Two or More Pilots.

7472 Marine Accident Report—Fire On Board the Small Passenger Vessel Port Imperial Manhattan, Hudson River, New York City, New York, November 12, 2000.

7350A Five Safety Recommendations to the Federal Aviation Administration Concerning the Emergency Exit Door Design of Transport-Category Airplanes and the Adequacy of Information Contained in Air Carriers' Flight and Cabin Crew Training Manuals and Programs Regarding Overpressurization.

NEWS MEDIA CONTACT: Telephone: (202) 314-6100. Individuals requesting specific accommodations should contact Ms. Carolyn Dargan at (202) 314-6305 by Friday, June 7, 2002.

FOR MORE INFORMATION CONTACT: Vicky D'Onofrio, (202) 314-6410.

Dated: May 31, 2002.
Vicky D'Onofrio,
Federal Register Liaison Officer.

[FR Doc. 02-14044 Filed 5-31-02; 2:25 pm]

BILLING CODE 7533-01-M